DEPARTMENT OF JUSTICE

[OMB Number 1121-NEW]

Agency Information Collection Activities; Proposed Collection Comments Requested; New collection: Census of Tribal Law Enforcement Agencies (CTLEA)

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 5, 2019.

FOR FURTHER INFORMATION CONTACT: If you have additional comments especially on the estimated public burden or associated response time, suggestions, or need a copy of the proposed information collection instrument with instructions or additional information, please contact Steven W. Perry, Statistician, Institutional Research & Special Projects Unit, Bureau of Justice Statistics, 810 Seventh Street NW, Washington, DC 20531 (email: Steven.W.Perry@usdoj.gov; telephone: 202-307-0777).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Census of Tribal Law Enforcement Agencies (CTLEA).

(3) The agency form number, if any, and the applicable component of the Department sponsoring the collection: The applicable form number(s) for this collection is CTLEA-18. The applicable component within the Department of Justice is the Bureau of Justice Statistics, in the Office of Justice Programs.

(4) Affected public who will be asked or required to respond, as well as a brief abstract: This information collection is a census of the 279 tribal law enforcement agencies operating in Indian country and serving tribal lands. Enacted in 2010, the Tribal Law and Order Act (TLOA) requires the Bureau of Justice Statistics (BJS) to (1) establish and implement a tribal data collection system, (2) consult with Indian tribes to establish and implement this data collection system, and (3) annually report to Congress the data collected and analyzed in accordance with the act (Pub. L. 111-211, 124 Stat. 2258, § 251(b)). Indian country includes federally recognized reservations, tribal communities, and identified trust lands. Criminal jurisdiction in Indian country varies by type of crime committed, whether the offender or victim is a tribal member, and the state in which the offense occurred. This information collection helps fulfill this mandate and meet the agency's mission.

Abstract: Tribal law enforcement agencies share concurrent jurisdiction for all criminal matters among tribal members occurring on tribal lands. They often act as the first responders for serious felony crimes committed in Indian country, until the appropriate federal and state law enforcement official arrive upon the scene. Tribal law enforcement agencies are authorized and operated by tribes to enforce tribal laws, statutes and criminal codes. Tribal police officers are responsible for ensuring public safety on reservations, trust lands and tribal communities. Although tribal law enforcement agencies now number 279, unlike their Federal, State and local counterparts, they have been the subject of only limited studies and no comprehensive recurring statistical collection.

As part of the CTLEA questionnaire development process, during FY 2016 and FY 2017, BJS implemented a comprehensive and culturally centered strategy to gather input from both federal agencies and tribal law enforcement agencies on the proposed content for the CTLEA questionnaire. First, various DOJ policy and grant making components were invited to provide recommendations on their critical data needs to improve program planning and resource allocation. Second, BJS hosted a two day tribal justice expert panel in Phoenix, Arizona that included participants from the Bureau of Indian Affairs, the FBI's Indian Country Crimes Unit, tribal law enforcement agencies, and Alaska Native villages. Third, the CTLEA draft questionnaire content was then submitted for review by various tribal law enforcement agencies, including those in both Public Law (Pub. L.) 280 and non-Public Law 280 jurisdictions and BIA agencies.¹

¹ Public Law 83-280, August 15, 1953, codified as 18 U.S.C. 1162, 28 U.S.C. 1360, and 25 U.S.C. 1321-1326). Due to the sovereign status of federally recognized tribes in the United States, crimes committed in Indian country are often subject to concurrent jurisdiction among multiple criminal justice agencies. More than 300 tribes in the United States are under Public Law 83-280 jurisdictions (commonly referred to as Pub. L. 280), which established a method whereby the federal government could transfer mandatory jurisdiction over crimes in Indian country to states or states could acquire optional jurisdiction in whole or in part over Indian country within their boundaries. Sixteen states have established either mandatory or optional jurisdictions over crimes in Indian country.

California, Minnesota (except the Red Lake Reservation), Nebraska, Oregon (except the Warm Springs Reservation), and Wisconsin. Ten states have acquired optional jurisdiction over crimes in Indian country: Arizona, Florida, Idaho, Iowa, Montana, Nevada, North Dakota, South Dakota, Utah, and Washington. In states where Public Law 280 does not apply, the federal government retains criminal jurisdiction for major crimes committed in Indian country. Federal jurisdiction in Indian country is established under the Indian Country Crimes Act (18 U.S.C. 1152), the Indian Country Major Crimes Act (18 U.S.C. 1153), and the Assimilative Crimes Act (18 U.S.C. 13).

BJS conducted cognitive testing during July—August 2018 of the CTLEA survey to ensure: (1) Question ordering and item clarity, (2) availability of data types requested, and (3) verification of the estimated respondent burden. The full data collection period, which is anticipated to commence April-August 2019, pending OMB approval.

The CTLEA will collect data on the administrative and operational characteristics of the tribal law enforcement agencies, with the goal of producing national statistics on tribal law enforcement agency staffing; sources of funding; calls for service and arrests; training; coordination and collaboration with Federal, State and local agencies; technology use; and, access to regional and national criminal justice databases. These data will allow BJS to establish baselines for future trend analyses and comparisons with future surveys of tribal law enforcement agencies.

(5) An estimate of the total number of respondents and the amount of time estimated for an average respondent to respond: An estimated 279 tribal law enforcement agencies—including tribal operated police departments (229), conservation/wildlife enforcement agencies (44), and tribal university or college police (6)—that serve or work on tribal lands will be asked to take part in the CTLEA. Based on the survey development and cognitive testing activities, an average of 30 minutes per respondent is needed to complete the CTLEA-18 form per respondent. BJS anticipates that nearly all of the approximately 279 respondents will fully complete the questionnaire.

(6) An estimate of the total public burden (in hours) associated with the collection: The total estimated public burden associated with this collection is 174.5 hours. It is estimated that respondents will take 30 minutes to complete a questionnaire (279 × 30 = 139.5 hours) and additional verification or validation of responses for about 50% of the respondents will require 15 minutes (140 × 15 minutes = 35 hours). The total burden hours for CTLEA respondent data collection:

Table 1—2018 CTLEA Estimated Respondent Burden
Total number of respondents | Time to complete CTLEA-18 |  | Time to complete Nonresponse follow-up |  | Total CTLEA-18 respondent burden (hours)
(a) CTLEA universe, N = 279 | 30 minutes |  | 15 minutes
| X |  | X
(b) Non-response follow-up estimated at 50% of CTLEA universe, n = 140 | N = 279 | + | n = 140 | = | 174.5
| 139.5 hours |  | 35 hours

If additional information is required contact: Melody Braswell, Department Clearance Officer, United States Department of Justice, Justice Management Division, Policy and Planning Staff, Two Constitution Square, 145 N Street NE, 3E.405A, Washington, DC 20530.

Dated: January 30, 2019.
Melody Braswell,
Department Clearance Officer for PRA, U.S. Department of Justice.

[FR Doc. 2019-00853 Filed 2-1-19; 8:45 am]

BILLING CODE 4410-18-P